NATIONAL AERONAUTICS AND SPACE ADMINISTRATION

[Notice (04-030)]

President's Commission on Implementation of United States Space Exploration Policy; Meeting

AGENCY: National Aeronautics and Space Administration (NASA).

ACTION: Notice of meeting.

SUMMARY: In accordance with the Federal Advisory Committee Act, Public Law 92-463, as amended, the National Aeronautics and Space Administration announces a meeting of the President's Commission on Implementation of United States Space Exploration Policy.

DATES: Wednesday, March 3, 2004, 1 p.m. to 5 p.m. and March 4, 2004, 9 a.m. to 6 p.m.

ADDRESSES: United States Air Force Museum, 1100 Spaatz Street, Wright Patterson AFB, Ohio 45433-7102. (937) 255-3286.

FOR FURTHER INFORMATION CONTACT: Mr. Steven Schmidt, Office of the Administrator, National Aeronautics and Space Administration, Washington, DC, (202) 358-1808.

SUPPLEMENTARY INFORMATION: The meeting will be open to the public up to the seating capacity of the room. The agenda for the meeting is as follows:

• Competitiveness and prosperity;

• Science and technology;

• Management and sustainability;

• Education and youth.

It is not possible to accommodate the full notice period because of the short time frame in which the Commission is expected to finish its work and write its report. Visitors will be requested to sign a visitor's register.

Michael F. O'Brien,
Assistant Administrator for External Relations, National Aeronautics and Space Administration.

[FR Doc. 04-4302 Filed 2-25-04; 8:45 am]

BILLING CODE 7510-01-P